DEPARTMENT OF COMMERCE

Foreign-Trade Zones Board

[B-53-2022]

Foreign-Trade Zone (FTZ) 126—Reno, Nevada; Notification of Proposed Production Activity Tesla, Inc.; Battery Products, Electric Motors, and Energy Storage Products McCarren and Sparks, Nevada

Tesla, Inc., submitted a notification of proposed production activity to the FTZ Board (the Board) for its facilities in McCarren and Sparks, Nevada within Subzone 126D. The notification conforming to the requirements of the Board's regulations (15 CFR 400.22) was received on November 9, 2022.

Pursuant to 15 CFR 400.14(b), FTZ production activity would be limited to the specific foreign-status material(s)/component(s) described in the submitted notification (summarized below) and subsequently authorized by the Board. The benefits that may stem from conducting production activity under FTZ procedures are explained in the background section of the Board's website—accessible via www.trade.gov/ftz. The proposed material(s)/component(s) would be added to the production authority that the Board previously approved for the operation, as reflected on the Board's website.

The proposed foreign-status materials and components include aluminum alloy coil and aluminum tab (duty rate ranges from 3.0 to 5.7%). The request indicates that certain materials/components are subject to duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is January 3, 2023.

A copy of the notification will be available for public inspection in the “Online FTZ Information System” section of the Board's website.

For further information, contact Juanita Chen at juanita.chen@trade.gov.

Dated: November 16, 2022.
Andrew McGilvray,
Executive Secretary.

[FR Doc. 2022-25370 Filed 11-21-22; 8:45 am]

BILLING CODE 3510-DS-P